DEPARTMENT OF THE INTERIOR

Committee Establishment: Climate Change Science Program Committee for Synthesis and Assessment Product 4.2: Thresholds of Climate Change

AGENCY: U.S. Geological Survey, Department of the Interior.

ACTION: Estaablishment of a Federal Advisory Committee.

SUMMARY: This notice is published in accordance with Section 9(a) of the Federal Advisory Committee Act of 1972 (Pub. L. 92-643). Following consultation with the General Services Administration, notice is hereby given that the Secretary of the Interior has established the Advisory Committee for the United States Geological Survey—Climate Change Science Program for Synthesis and Assessment Product 4.2—Thresholds of Climate Change. The Climate Change Science Program (CCSP), a consortium of Federal agencies performing climate science, has established a synthesis and assessment (S&A) program as a part of its Strategic Plan. There are 21 S&A products to be administered by 13 Federal agencies over a 5-year period. The U.S. Geological Survey, a participant in the CCSP, is responsible for three S&A products. S&A product 4.2: Thresholds of Climate Change is the subject of this Federal Advisory Committee.

The primary function of the Committee is to synthesize and assess the state of knowledge on the topic of thresholds of climate change and communicate this information to the U.S. Geological Survey. Committee members will meet and discuss issues relating to the study design, research methodology, data sources and quality, and study findings. The Committee will draft a report that will serve as the CCSP definitive document on current knowledge pertaining to the topic of thresholds of climate change. Membership will consist of Federal and non-Federal scientists who are recognized as experts in the climate science community.

FOR FURTHER INFORMATION CONTACT: Colleen W. Charles, U.S. Geological Survey, 12201 Sunrise Valley Drive, MS 301, Reston, Virginia 20192; 703-648-4110. colleen_charles@usgs.gov.

Dated: May 1, 2007.
Dick Kempthorne,
Secretary of the Interior.

[FR Doc. 07-2327 Filed 5-10-07; 8:45 am]

BILLING CODE 4311-AM-M